ENVIRONMENTAL PROTECTION AGENCY

[EPA-HQ-OPPT-2010-0877; FRL-8858-9]

Endocrine Disruptor Screening Program (EDSP); Announcing the Availability of a Draft for Weight-of-Evidence Guidance Document: Evaluating Results of EDSP Tier 1 Screening To Identify Candidate Chemicals for Tier 2 Testing; Extension of Comment Period

AGENCY: Environmental Protection Agency (EPA).

ACTION: Notice; extension of comment period.

SUMMARY: EPA published a notice in the Federal Register of November 4, 2010, concerning a draft guidance document titled, “Weight-of-Evidence Guidance Document: Evaluating Results of EDSP Tier 1 Screening To Identify Candidate Chemicals for Tier 2 Testing.” EPA received a request for an extension of the comment period. EPA is extending the comment period from January 3, 2011, to February 3, 2011.

DATES: Comments, identified by docket identification (ID) number EPA-HQ-OPPT-2010-0877, must be received on or before February 3, 2011.

ADDRESSES: Follow the detailed instructions as provided under ADDRESSES in the Federal Register document of November 4, 2010.

FOR FURTHER INFORMATION CONTACT: For technical information contact: Don Bergfelt, Office of Science Coordination and Policy (7203M), Environmental Protection Agency, 1200 Pennsylvania Ave., NW., Washington, DC 20460-0001; telephone number: (202) 564-8472; e-mail address: bergfelt.don@epa.gov.

For general information contact: The TSCA-Hotline, ABVI-Goodwill, 422 South Clinton Ave., Rochester, NY 14620; telephone number: (202) 554-1404; e-mail address: TSCA-Hotline@epa.gov.

SUPPLEMENTARY INFORMATION:

This document extends the public comment period established in the Federal Register notice of November 4, 2010 (75 FR 67963) (FRL-8849-8). In that notice, EPA announced the availability for public review and comment of a draft guidance document titled, “Weight-of-Evidence Guidance Document: Evaluating Results of EDSP Tier 1 Screening To Identify Candidate Chemicals for Tier 2 Testing.” EPA is hereby extending the comment period, which was set to end on January 3, 2011, to February 3, 2011.

To submit comments, or access the docket, please follow the detailed instructions as provided under ADDRESSES in the Federal Register notice of November 4, 2010. If you have questions, consult the technical person listed under FOR FURTHER INFORMATION CONTACT.

List of Subjects

Environmental protection, Endocrine disruptors, Screening assays, Weight-of-evidence.

Dated: December 20, 2010.
Stephen A. Owens,
Assistant Administrator, Office of Chemical Safety and Pollution Prevention.

[FR Doc. 2010-32662 Filed 12-27-10; 8:45 am]

BILLING CODE 6560-50-P